DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by November 17, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax: 703/358-2281.

FOR FURTHER INFORMATION CONTACT: Division of Management Authority, telephone: 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-077886

Applicant: Gary H. Tennison, Gig Harbor, WA

The applicant requests a permit to import the sport-hunted trophy of one male bontebok (Damaliscus pygargus dorcas) culled from a captive herd maintained under the management program of the Republic of South Africa, for the purpose of enhancement of the survival of the species.

PRT-077300

Applicant: Grant R. Oliver, Coolidge, AZ

The applicant requests a permit to import the sport-hunted trophy of one male bontebok (Damaliscus pygargus dorcas) culled from a captive herd maintained under the management program of the Republic of South Africa, for the purpose of enhancement of the survival of the species.

PRT-077297

Applicant: Greg J. Gallacher, Wantagh, NY

The applicant requests a permit to import the sport-hunted trophy of one male bontebok (Damaliscus pygargus dorcas) culled from a captive herd maintained under the management program of the Republic of South Africa, for the purpose of enhancement of the survival of the species.

PRT-077812

Applicant: Philip J. Gaines, Davis, CA

The applicant requests a permit to import the sport-hunted trophy of one male bontebok (Damaliscus pygargus dorcas) culled from a captive herd maintained under the management program of the Republic of South Africa, for the purpose of enhancement of the survival of the species.

PRT-076576

Applicant: George H. Brannen, Inverness, FL

The applicant requests a permit to import the sport-hunted trophy of one male bontebok (Damaliscus pygargus dorcas) culled from a captive herd maintained under the management program of the Republic of South Africa, for the purpose of enhancement of the survival of the species.

PRT-067307

Applicant: Shark Reef at Mandalay Bay, Las Vegas, NV

The applicant requests amendment of their permit for interstate commerce to obtain three live, captive born Komodo monitors (Varanus komodoensis) from the Miami Metro Zoo. The applicant now indicates that only two specimens will be available from Miami with the third captive born animal to be obtained based on AZA SSP recommendation from an institution yet to be designated. The purpose will remain enhancement of the survival of the species through both conservation education and in-situ conservation.

Endangered Marine Mammals and Marine Mammals

The public is invited to comment on the following application(s) for a permit to conduct certain activities with endangered marine mammals and/or marine mammals. The application(s) was/were submitted to satisfy requirements of the Endangered Species Act of 1973, as amended (16 U.S.C. 1531, et seq.) and/or the Marine Mammal Protection Act of 1972, as amended (16 U.S.C. 1361, et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

PRT-049136

Applicant: Charles J. Grossman/Xavier University, Cincinnati, OH

The applicant requests amendment of their permit to conduct auditory response research on captive held and or captive born manatees (Trichechus manatus latirosis), to include more then two specimens and broadened scope including response to playback sounds of motor boats, manatee vocalizations, etc., in captivity. This notification covers activities to be conducted by the applicant through June 18, 2005.

Concurrent with the publication of this notice in the Federal Register, the Division of Management Authority is forwarding a copy of the above application to the Marine Mammal Commission and the Committee of Scientific Advisors for their review.

PRT-077783

Applicant: Julian Alfredo, Vancouver, WA

The applicant requests a permit to import a polar bear (Ursus maritimus) sport hunted from the Norwegian Bay polar bear population in Canada for personal use.

PRT-077954

Applicant: Richard Guy Ferrara, South Bend, IN

The applicant requests a permit to import a polar bear (Ursus maritimus) sport hunted from the Southern Beaufort Sea polar bear population in Canada for personal use.

Dated: October 3, 2003.
Charles S. Hamilton,
Senior Permit Biologist, Branch of Permits, Division of Management Authority.

[FR Doc. 03-26235 Filed 10-16-03; 8:45 am]

BILLING CODE 4310-55-P